DEPARTMENT OF HOMELAND SECURITY

Coast Guard

33 CFR Part 117

[CGD11-07-005]

RIN 1625-AA09

Drawbridge Operation Regulations; Sacramento River, at Isleton, CA

AGENCY: Coast Guard, DHS.

ACTION: Notice of temporary deviation from regulations.

SUMMARY: The Commander, Eleventh Coast Guard District, has issued a temporary deviation from the regulation governing the operation of the Isleton Drawbridge across the Sacramento River, mile 18.7, at Isleton, CA. This deviation allows for a 12-hour notice for openings. The deviation is necessary for the bridge owner, the California Department of Transportation (Caltrans), to coordinate vessel traffic with their scheduled critical maintenance and operating upgrades.

DATES: This deviation is effective from 12:01 a.m. on April 21, 2007 through 11:59 p.m. on May 25, 2007.

ADDRESSES: Materials referred to in this document are available for inspection or copying at Commander (dpw), Eleventh Coast Guard District, Building 50-2, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION: Caltrans requested a temporary change to the operation of the Isleton Drawbridge, mile 18.7, Sacramento River, at Isleton, CA. The Isleton Drawbridge navigation span provides a vertical clearance of 13 feet above Mean High Water in the closed-to-navigation position. The draw opens on signal between 6 a.m. and 10 p.m. from May 1 through October 31, and between 9 a.m. and 5 p.m. from November 1 through April 30. At all other times, it opens on signal if at least four hours notice is given as required by 33 CFR 117.189. Navigation on the waterway is recreational, search and rescue and commercial traffic hauling materials for levee repair. Caltrans requested a change to the 12-hour notice for openings from 12:01 a.m. on April 21, 2007 through 11:59 p.m. on May 25, 2007. During this time the control house will be replaced, motors refurbished, and operating machinery will be upgraded, resulting in manual control of the drawspan. This temporary deviation has been coordinated with waterway users. No objections to the proposed temporary rule were raised. Vessels that can transit the bridge while in the closed-to-navigation position may continue to do so at any time.

In accordance with 33 CFR 117.35(c), this work will be performed with all due speed in order to return the bridge to normal operation as soon as possible. This deviation from the operating regulations is authorized under 33 CFR 117.35.

Dated: February 23, 2007.
J.A. Breckenridge,
Rear Admiral, U.S. Coast Guard, Commander, Eleventh Coast Guard District.

[FR Doc. E7-3802 Filed 3-5-07; 8:45 am]

BILLING CODE 4910-15-P